SMALL BUSINESS ADMINISTRATION

[Declaration of Disaster No. P006]

State of Oklahoma

As a result of the President's major disaster declaration for Public Assistance on February 4, 2003, the U.S. Small Business Administration is activating its disaster loan program only for private non-profit organizations that provide essential services of a governmental nature. I find that Beckham, Blaine, Caddo, Canadian, Custer, Kingfisher, Kiowa, Logan, Noble, Osage, Pawnee, Payne, Roger Mills and Washita Counties in the State of Oklahoma constitute a disaster area due to damages caused by a severe ice storm occurring from December 3, 2002, and continuing through December 4, 2002. Applications for loans for physical damage as a result of this disaster may be filed until the close of business on April 7, 2003 at the address listed below or other locally announced locations: U.S. Small Business Administration, Disaster Area 3 Office, 4400 Amon Carter Blvd., Suite 102, Ft. Worth, TX 76155.

The interest rates are:

For physical damage | Percent
Non-profit organizations without credit available elsewhere | 3.324
Non-profit organizations with credit available elsewhere | 5.500

The number assigned to this disaster for physical damage is P00611. (Catalog of Federal Domestic Assistance Program Nos. 59008).

Dated: February 5, 2003.
Herbert L. Mitchell,
Associate Administrator for Disaster Assistance.

[FR Doc. 03-3779 Filed 2-14-03; 8:45 am]

BILLING CODE 8025-01-P